NUCLEAR REGULATORY COMMISSION

[Docket No. NRC-2014-0091]

Agency Information Collection Activities: Submission for the Office of Management and Budget (OMB) Review; Comment Request

AGENCY: Nuclear Regulatory Commission.

ACTION: Notice of the OMB review of information collection and solicitation of public comment.

SUMMARY: The U.S. Nuclear Regulatory Commission (NRC) has recently submitted to OMB for review the following proposal for the collection of information under the provisions of the Paperwork Reduction Act of 1995 (44 U.S.C. Chapter 35). The NRC hereby informs potential respondents that an agency may not conduct or sponsor, and that a person is not required to respond to, a collection of information unless it displays a currently valid OMB control number. The NRC published a Federal Register notice with a 60-day comment period on this information collection on April 29, 2014.

1. Type of submission, new, revision, or extension: Extension.

2. The title of the information collection: Grant and Cooperative Agreement Provisions.

3. Current OMB approval number: 3150-0107.

4. The form number if applicable: Not applicable.

5. How often the collection is required: Technical performance reports are required every 6 months; other information is submitted on occasion, as needed.

6. Who will be required or asked to report: Grant and Cooperative Agreement Recipients.

7. An estimate of the number of annual responses: 668 (450 responses plus 218 recordkeepers).

8. The estimated number of annual respondents: 218.

9. An estimate of the total number of hours needed annually to complete the requirement or request: 5,081 (4,742 reporting hours plus 339 recordkeeping hours).

10. Abstract: The Acquisition Management Division is responsible for awarding grants and cooperative agreements (financial assistance) for the NRC. Acquisition Management Division collects information from assistance recipients in accordance with grant and cooperative agreement provisions in order to administer NRC's financial assistance program. The information collected under the provisions ensures that the Government's rights are protected, the agency adheres to public laws, the work proceeds on schedule, and that disputes between the Government and the recipient are settled.

The public may examine and have copied for a fee publicly-available documents, including the final supporting statement, at the NRC's Public Document Room, Room O-1F21, One White Flint North, 11555 Rockville Pike, Rockville, Maryland 20852. The OMB clearance requests are available at the NRC's Web site: http://www.nrc.gov/public-involve/doc-comment/omb/. The document will be available on the NRC's home page site for 60 days after the signature date of this notice.

Comments and questions should be directed to the OMB reviewer listed below by August 29, 2014. Comments received after this date will be considered if it is practical to do so, but assurance of consideration cannot be given to comments received after this date.

Danielle Y. Jones, Desk Officer, Office of Information and Regulatory Affairs (3150-0107), NEOB-10202, Office of Management and Budget, Washington, DC 20503.

Comments can also be emailed to Danielle_Y_Jones@omb.eop.gov or submitted by telephone at 202-395-1741.

The Acting NRC Clearance Officer is Kristen Benney, telephone: 301-415-6355.

Dated at Rockville, Maryland, this 24th day of July, 2014.
For the Nuclear Regulatory Commission.
Kristen Benney,
Acting NRC Clearance Officer, Office of Information Services.

[FR Doc. 2014-17868 Filed 7-29-14; 8:45 am]

BILLING CODE 7590-01-P